DEPARTMENT OF COMMERCE

National Oceanic and Atmospheric Administration

[I.D. 071803B]

Proposed Information Collection; Comment Request; An Observer Program for Catcher Vessels in the Pacific Coast Groundfish Fishery

AGENCY: AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before September 22, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Jonathan Cusick, 206-860-3477, or at Jonathan.Cusick@noaa.gov.

SUPPLEMENTARY INFORMATION:

I. Abstract

Catcher vessels participating in the Pacific Coast Groundfish Fishery and who are selected by NOAA must provide NOAA with notification at least 24 hours before departure for a fishing trip and with notification when the vessel ceases to participate in the observed portion of the fleet. The information will be used to plan for fishery observer assignments.

II. Method of Collection

Reports are made by phone to a toll-free number.

III. Data

OMB Number: 0648-0423.

Form Number: None.

Type of Review: Regular submission.

Affected Public: Business or other for-profit organizations.

Estimated Number of Respondents: 2,116.

Estimated Time Per Response: 10 minutes.

Estimated Total Annual Burden Hours: 1,763.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 16, 2003.
Gwellnar Banks,
Management Analyst, Office of the Chief Information Officer.

[FR Doc. 03-18732 Filed 7-22-03; 8:45 am]

BILLING CODE 3510-22-S